GENERAL SERVICES ADMINISTRATION

Privacy Act of 1974; Notice of Updated Systems of Records

AGENCY: General Services Administration.

ACTION: Notice.

SUMMARY: The General Services Administration (GSA) reviewed its Privacy Act systems to ensure that they are relevant, necessary, accurate, up-to-date, covered by the appropriate legal or regulatory authority, and in response to OMB M-07-16. This notice is a compilation of updated Privacy Act system of record notices.

DATES: Effective May 27, 2008.

FOR FURTHER INFORMATION CONTACT: Call or e-mail the GSA Privacy Act Officer: telephone 202-208-1317; e-mail gsa.privacyact@gsa.gov.

ADDRESSES: GSA Privacy Act Officer (CIB), General Services Administration, 1800 F Street, NW., Washington, DC 20405.

SUPPLEMENTARY INFORMATION: GSA undertook and completed an agency wide review of its Privacy Act systems of records. As a result of the review GSA is publishing updated Privacy Act systems of records notices. Rather than make numerous piecemeal revisions, GSA is republishing updated notices for one of its systems. Nothing in the revised system notices indicates a change in authorities or practices regarding the collection and maintenance of information. Nor do the changes impact individuals' rights to access or amend their records in the systems of records. The updated system notices also includes the new requirement from OMB Memorandum M-07-16 regarding a new routine use that allows agencies to disclose information in connection with a response and remedial efforts in the event of a data breach.

Dated: April 16, 2008.
Cheryl M. Paige,
Director, Office of Information Management.

GSA/TRANSIT-1

SYSTEM NAME:

Transportation Benefits Records.

SYSTEM LOCATION:

System records are maintained by the Office of the Chief Human Capital Officer (C), 1800 F Street, NW., Washington, DC 20405; and by each of GSA's regional offices.

CATEGORIES OF INDIVIDUALS COVERED BY THE SYSTEM:

Employees applying for transit subsidies for use of public transportation and vanpools to and from the workplace.

CATEGORIES OF RECORDS IN THE SYSTEM:

Record categories may include name, home address, Social Security Number, work organization and location, mode of transportation, and commuting costs.

AUTHORITY FOR MAINTENANCE OF THE SYSTEM:

E.O. 13150; 26 U.S.C. 132(f); and Federal Employees Clean Air Incentives Act (section 2(a) of Public Law 103-172, found at 5 U.S.C. 7905), as amended.

PURPOSE:

To establish and maintain systems for providing transportation fringe benefits to employees who use mass transportation to commute to and from work.

ROUTINE USES OF RECORDS MAINTAINED IN THE SYSTEM, INCLUDING CATEGORIES OF USERS AND THE PURPOSE OF SUCH USES:

System information is used to determine the eligibility of applicants for transportation benefits and to disburse benefits to eligible employees through the Department of Transportation. Information also may be disclosed as a routine use:

a. In any legal proceeding, where pertinent, to which GSA is a party before a court or administrative body.

b. To authorized officials engaged in investigating or settling a grievance, complaint, or appeal filed by an individual who is the subject of the record.

c. To a Federal agency in connection with the hiring or retention of an employee; the issuance of a security clearance; the reporting of an investigation; the letting of a contract; or the issuance of a grant, license, or other benefit to the extent that the information is relevant and necessary to a decision.

d. To the Office of Personnel Management (OPM), the Office of Management and Budget (OMB), or the Government Accountability Office (GAO) when the information is required for program evaluation purposes.

e. To a Member of Congress or staff on behalf of and at the request of the individual who is the subject of the record.

f. To an expert, consultant, or contractor of GSA in the performance of a Federal duty to which the information is relevant.

g. To the National Archives and Records Administration (NARA) for records management purposes.

h. To appropriate agencies, entities, and persons when (1) the Agency suspects or has confirmed that the security or confidentiality of information in the system of records has been compromised; (2) the Agency has determined that as a result of the suspected or confirmed compromise there is a risk of harm to economic or property interests, identity theft or fraud, or harm to the security or integrity of this system or other systems or programs (whether maintained by GSA or another agency or entity) that rely upon the compromised information; and (3) the disclosure made to such agencies, entities, and persons is reasonably necessary to assist in connection with GSA's efforts to respond to the suspected or confirmed compromise and prevent, minimize, or remedy such harm.

POLICIES AND PRACTICES FOR STORING, RETRIEVING, ACCESSING, RETAINING, AND DISPOSING OF RECORDS IN THE SYSTEM:

STORAGE:

System records are stored electronically and on paper.

RETRIEVABILITY:

Records may be retrieved by name, Social Security Number, or other identifier in the system.

SAFEGUARDS:

Records are safeguarded in accordance with the Privacy Act and the Computer Security Act. Technical, administrative, and personnel security measures ensure confidentiality and integrity of system data. Access is limited to authorized individuals.

RETENTION AND DISPOSAL:

Applications will be maintained for as long as the applicant is an eligible participant in the subsidy program. System records are retained and disposed of according to GSA records maintenance and disposition schedules and the requirements of the National Archives and Records Administration (NARA).

SYSTEM MANAGER AND ADDRESS:

Office of the Chief Human Capital Officer (C), Office of Human Capital Management (CH), General Services Administration, 1800 F Street, NW., Washington, DC 20405.

NOTIFICATION PROCEDURES:

Inquiries should be directed to the system manager at the above address.

RECORD ACCESS PROCEDURES:

Requests for access to records should be directed to the system manager. GSA rules for accessing records under the Privacy Act are provided in 41 CFR part 105-64.

RECORD CONTESTING PROCEDURES:

Requests to correct records should be directed to the system manager. GSA rules for contesting record contents and for appealing determinations are provided in 41 CFR part 105-64.

RECORD SOURCE CATEGORIES:

Sources for information in the system are: Employees submitting applications for transit subsidies.

[FR Doc. E8-8906 Filed 4-24-08; 8:45 am]

BILLING CODE 6820-14-M